DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of September 2011.

The National Advisory Committee on Rural Health will convene its sixty-ninth meeting in the time and place specified below:

Name: National Advisory Committee on Rural Health and Human Services.

Dates and Time:

September 26, 2011, 12:30 p.m.-5 p.m.

September 27, 2011, 8:45 a.m.-4 p.m.

September 28, 2011, 8:45 a.m.-10:30 a.m.

Place: Forrest General Hospital, 6051 US Highway 40, Hattiesburg, Mississippi 39401.

Phone: (601) 288-7000.

The meeting will be open to the public.

Purpose: The National Advisory Committee on Rural Health and Human Services provides advice and recommendations to the Secretary with respect to the delivery, research, development, and administration of health and human services in rural areas.

Agenda: Monday morning, at 12:30 p.m., the meeting will be called to order by the Chairperson of the Committee, the Honorable Ronnie Musgrove. The first two presentations will be overviews of rural Mississippi and the Mississippi State Office of Rural Health. The remainder of the day the Committee will hear presentations on the three chosen Subcommittee topics. The first panel will focus on Health Disparities in Rural Communities. The second panel is Physician Payment Value Modifier. The final panel of the day is Care Transition and Aging and Disability Resource Center Program (ADRC). After the panel discussions, the Committee Chair will give an overview of the site visits. This will be followed by a call for public comment. The Monday meeting will close at 5 p.m.

Tuesday morning, at 8:45 a.m., Steve Hirsch, Executive Secretariat for the NACRHHS, will provide a Departmental Update. At 9:15 a.m., the Committee will break into Subcommittees and depart to the site visits. The Health Disparities Subcommittee will visit a Federally Qualified Healthcare Center in New Augusta, Perry County; and the Physician Payment Value Modifier Subcommittee will visit the Covington County Hospital in Collins, Mississippi. The Care Transitions and ADRC Subcommittee will visit Forrest General Hospital in Hattiesburg, Mississippi. The Subcommittees will return to the Forrest General Hospital in Hattiesburg at 3:30 p.m. Transportation to the site visits will not be provided to the public. The Tuesday meeting will close at 4 p.m.

The final session will be convened on Wednesday morning at 8:45 a.m. The meeting will open with a review of the Subcommittee site visits. The Chair of the Committee will lead a Working Session to discuss development of the Report to the Secretary. The Committee will draft a letter to the Secretary and discuss the agenda for the February 2012 meeting. The meeting will be adjourned at 10:30 a.m.

For Further Information Contact: Steve Hirsch, MSLS, Executive Secretary, National Advisory Committee on Rural Health and Human Services, Health Resources and Services Administration, Parklawn Building, Room 5A-05, 5600 Fishers Lane, Rockville, MD 20857, Telephone (301) 443-0835, Fax (301) 443-2803.

Persons interested in attending any portion of the meeting should contact Aaron Wingad at the Office of Rural Health Policy (ORHP) via Telephone at (301) 443-0835 or by e-mail at awingad@hrsa.gov. The Committee meeting agenda will be posted on ORHP's Web site: http://frwebgate.access.gpo.gov/cgi-in/leaving.cgi?from=leavingFR.html&log=linklog&to=http://www.ruralhealth.hrsa.gov.

Dated: August 16, 2011.
Reva Harris,
Acting Director, Division of Policy and Information Coordination.

[FR Doc. 2011-21432 Filed 8-19-11; 8:45 am]

BILLING CODE 4165-15-P